Executive Order 13193 of January 18, 2001

Federal Leadership on Global Tobacco Control and Prevention

By the authority vested in me as President by the Constitution and the laws of the United States of America, it is hereby ordered as follows:

Section 1. Policy. It shall be the policy of the executive branch to take strong action to address the potential global epidemic of diseases caused by tobacco use. The executive branch shall undertake activities to increase its capacity to address global tobacco prevention and control issues through coordinated domestic action, limited bilateral assistance to individual nations, and support to multilateral organizations. International activities shall be directed towards deterring children from tobacco use, protecting nonsmokers, and providing information about the adverse health effects of tobacco use and the health benefits of cessation.

Sec. 2. Responsibilities of Federal Departments and Agencies. (a) Tobacco Trade Policy. In the implementation of international trade policy, executive departments and agencies shall not promote the sale or export of tobacco or tobacco products, or seek the reduction or removal of foreign government restrictions on the marketing and advertising of such products, provided that such restrictions are applied equally to all tobacco or tobacco products of the same type. Departments and agencies are not precluded from taking necessary actions in accordance with the requirements and remedies available under applicable United States trade laws and international agreements to ensure nondiscriminatory treatment of United States products. Nothing in this Executive Order shall be construed (1) to modify the annual executive branch guidance to United States diplomatic posts on health, trade, and commercial aspects of tobacco, or (2) to affect any negotiating position of the United States on the Framework Convention on Tobacco Control.

(b) The Department of Health and Human Services' (HHS) Role in Tobacco Trade Policy Deliberations. The HHS shall be included in all deliberations of interagency working groups, chaired by the United States Trade Representative (USTR), that address issues relating to trade in tobacco and tobacco products. Through such participation, HHS shall advise the USTR, and other interested Federal agencies, of the potential public health impact of any tobacco-related trade action that is under consideration. Upon conclusion of a trade agreement that includes provisions specifically addressing tobacco or tobacco products, the USTR shall produce and make publicly available a summary describing those provisions.

(c) International Tobacco Control Needs Assessment. The HHS, with the cooperation of the Departments of State, Commerce, and Agriculture, and in consultation with the appropriate national Ministry of Health, shall conduct a pilot assessment of tobacco use in a country other than the United States. Such assessment will be carried out through a compilation and review of surveys and other needs assessments already available and include:

(1) initial estimates of the burden of disease and other public health consequences of tobacco use;

(2) the status of tobacco control regulatory measures in place to curtail tobacco consumption and tobacco related disease; and

(3) an analysis of the marketing, distribution, and manufacturing practices of tobacco companies in given regions, and the impact of those practices on smoking rates, particularly among women and children. Such assessment shall be prepared and provided to interested agencies and other parties not later than December 31, 2001, and be updated as practicable.

(d) Research and Training in Tobacco Control. The HHS will develop a research and training program linking institutions in the United States and certain other countries in the field of tobacco control. Emphasis will be placed on the collection of standardized and comparable surveillance data; networks for communication, information and best practices; and the development and evaluation of culturally-targeted approaches to preventing tobacco use and increasing quit rates, especially among women and children.

Sec. 3. General. (a) Executive departments and agencies shall carry out the provisions of this order to the extent permitted by law and consistent with their statutory and regulatory authorities and their enforcement mechanisms.

(b) This order clarifies and strengthens Administration policy and does not create any right or benefit, substantive or procedural, enforceable at law by a party against the United States, its officers or employees, or any other person.

wj

THE WHITE HOUSE,

January 18, 2001.

[FR Doc. 01-2139

Filed 1-22-01; 8:45 am]

Billing code 3195-01-P